NUCLEAR REGULATORY COMMISSION

[NRC-2018-0188]

Applications and Amendments to Facility Operating Licenses and Combined Licenses Involving No Significant Hazards Considerations

AGENCY: Nuclear Regulatory Commission.

ACTION: Biweekly notice; correction.

SUMMARY: The U.S. Nuclear Regulatory Commission (NRC) is correcting a notice that was published in the Federal Register on September 11, 2018, regarding the modification of the Prairie Island Nuclear Generating Plant licensing basis by the addition of a License Condition to allow for the implementation of the provisions in its regulations regarding, “Risk-Informed Categorization and Treatment of Structures, Systems, and Components for Nuclear Power Reactors.” This action is necessary to correct the NRC's Agencywide Documents Access and Management System (ADAMS) accession number and date for the license amendment request.

DATES: The correction takes effect on June 27, 2019.

ADDRESSES: Please refer to Docket ID NRC-2018-0188 when contacting the NRC about the availability of information regarding this document. You may obtain publicly-available information related to this document using any of the following methods:

• Federal Rulemaking website: Go to http://www.regulations.gov and search for Docket ID NRC-2018-0188. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The Application to Adopt 10 CFR 50.69, “Risk-Informed Categorization and Treatment of Structures, Systems and Components for Nuclear Power Reactors” is available in ADAMS under Accession ML18204A393.

FOR FURTHER INFORMATION CONTACT: Robert F. Kuntz, Office of Nuclear Reactor Regulation, U.S. Nuclear Regulatory Commission, Washington DC 20555-0001; telephone: 301-415-3733, email: Robert.Kuntz@nrc.gov.

SUPPLEMENTARY INFORMATION: In the Federal Register of September 11, 2018 (83 FR 45981), in FR Doc. 2018-19419, on page 45986, in the first column, second paragraph, the language is corrected as follows:

Date of amendment request: July 20, 2018. A publicly-available version is in ADAMS under Accession No. ML18204A393.

Dated at Rockville, Maryland, this 21st day of June 2019.
For the Nuclear Regulatory Commission.
Lisa M. Regner,
Acting Chief, Plant Licensing Branch III, Division of Operating Reactor Licensing, Office of Nuclear Reactor Regulation.

[FR Doc. 2019-13660 Filed 6-26-19; 8:45 am]

BILLING CODE 7590-01-P